FEDERAL COMMUNICATIONS COMMISSION

47 CFR Part 73

[GN Docket No. 12-268; FCC 14-50]

Expanding the Economic and Innovation Opportunities of Spectrum Through Incentive Auctions

AGENCY: Federal Communications Commission.

ACTION: Final rule; announcement of effective date.

SUMMARY: In this document, the Federal Communications Commission (Commission) announces that the Office of Management and Budget (OMB) has approved, for a period of three years, certain information collection requirements associated with the Commission's Expanding the Economic and Innovation Opportunities of Spectrum Through Incentive Auctions Report and Order (Incentive Auction Report and Order), FCC 14-50. This document is consistent with the Incentive Auction Report and Order, which stated that the Commission would publish a document in the Federal Register announcing OMB approval and the effective date of the new

DATES: 47 CFR 73.3700(b)(1)(i) through (v), (b)(2)(i) and (ii), (b)(3), (b)(4)(i) and (ii), and (b)(5); 73.3700(c); 73.3700(d); 73.3700(f); 73.3700(g); 73.3700(h)(5), and FCC Form 2100, Schedules A, B, E and F, published at 79 FR 48442, August 15, 2014, are effective March 28, 2016. OMB approved the information collection requirements in 47 CFR 73.3700(b)(1)(vii) and (h)(2) on March 17, 2016.

FOR FURTHER INFORMATION CONTACT: Cathy Williams, Cathy.Williams@fcc.gov, (202) 418-2918.

SUPPLEMENTARY INFORMATION: This document announces that, on March 17, 2016, OMB approved the information collection requirements contained in the Commission's Incentive Auction Report and Order, FCC 14-50, published at 79 FR 48442, August 15, 2014. The OMB Control Numbers are 3060-0016, 3060-0027, 3060-0386, 3060-0837, 3060-0928, 3060-0932 and 3060-1216. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1194, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 17, 2016, for some of the information collection requirements contained in FCC 14-50, 47 CFR 73.3700(b)(1)(i) through (v), (vii), (b)(2)(i) and (ii), (b)(3), (b)(4)(i) and (ii), and (b)(5); 73.3700(c); 73.3700(d); 73.3700(f); 73.3700(g); 73.3700(h)(2), 73.3700(h)(5), and FCC Form 2100, Schedules A, B, E and F.

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0016, 3060-0027, 3060-0386, 3060-0837, 3060-0928, 3060-0932 and 3060-1216. The foregoing document is required by the Paperwork Reduction Act of 1995, Pub. L. 104-13, October 1, 1995, and 44 U.S.C. 3507.

The total annual reporting burdens and costs for the respondents are as follows:

OMB Control No.: 3060-0016.

OMB Approval Date: March 17, 2016.

OMB Expiration Date: March 31, 2019.

Title: FCC Form 2100, Application for Media Bureau Audio and Video Service Authorization, Schedule C (Former FCC Form 346); Sections 74.793(d) and 74.787; LPTV Out-of-Core Digital Displacement Application; Section 73.3700(g)(1)-(3), Post-Incentive Auction Licensing and Operations.

Form No.: FCC Form 2100, Schedule C.

Respondents: Business or other for-profit entities; Not for profit institutions; State, local or Tribal government.

Number of Respondents and Responses: 4,250 respondents and 4,250 responses.

Estimated Time per Response: 2.5-7 hours (total of 9.5 hours).

Frequency of Response: One-time reporting requirement; on occasion reporting requirement; third party disclosure requirement.

Obligation to Respond: Required to obtain or retain benefits. The statutory authority for this collection is contained in Section 154(i), 303, 307, 308 and 309 of the Communications Act of 1934, as amended.

Total Annual Burden: 40,375 hours.

Annual Cost Burden: $23,579,000.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used to allow Low Power television stations and TV Translator stations that are displaced as a result of the Federal Communications Commission's Incentive Auction to submit an application for displacement relief during a restricted filing window. Form 2100, Schedule C is also used to apply for authority to construct or make changes to a Low Power Television, TV Translator or TV Booster broadcast station. OMB approved the requirements.

OMB Control No.: 3060-0027.

OMB Approval Date: March 17, 2016.

OMB Expiration Date: March 31, 2019.

Title: Application for Construction Permit for Commercial Broadcast *71795 Station, FCC Form 301; FCC Form 2100, Application for Media Bureau Audio and Video Service Authorization, Schedule A; 47 CFR 73.3700(b)(1) and (2), Post Auction Licensing.

Form No.: FCC Form 2100, Schedule A.

Respondents: Business or other for-profit entities; Not for profit institutions; State, local or Tribal Government.

Number of Respondents and Responses: 3,080 respondents and 6,516 responses.

Estimated Time per Response: 1-6.25 hours.

Frequency of Response: One-time reporting requirement; On occasion reporting requirement; Third party disclosure requirement.

Obligation to Respond: Required to obtain or retain benefits. The statutory authority for this collection is contained in Sections 154(i), 303 and 308 of the Communications Act of 1934, as amended.

Total Annual Burden: 15,287 hours.

Annual Cost Burden: $62,775,788.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used to allow full-power television broadcast stations that are relocated to a new channel following the Federal Communications Commission's Incentive Auction to submit a construction application to build new facilities to operate on their post-auction channel. Form 2100, Schedule A is also used to apply for authority to construct a new commercial AM, FM, or TV broadcast station and to make changes to existing facilities of such a station. OMB approved the requirements.

OMB Control No.: 3060-1216.

OMB Approval Date: March 17, 2016.

OMB Expiration Date: March 31, 2019.

Title: Media Bureau Incentive Auction Implementation, Sections 73.3700(b)(4)(i)-(ii), (c), (d),

(h)(5)-(6) and (g)(4).

Form No.: N/A.

Respondents: Business or other for-profit entities; Not for profit institutions.

Number of Respondents and Responses: 1,950 respondents and 174,219 responses.

Estimated Time per Response: .004-15 hours.

Frequency of Response: One-time reporting requirement; on occasion reporting requirement; recordkeeping requirement.

Obligation to Respond: Required to obtain or retain benefits. Statutory authority for these collections are contained in 47 U.S.C. 151, 154, 301, 303, 307, 308, 309, 310, 316, 319, 325(b), 332, 336(f), 338, 339, 340, 399b, 403, 534, 535, 1404, 1452, and 1454.

Total Annual Burden: 24,932 hours.

Annual Cost Burden: $1,214,400.

Privacy Act Impact Assessment: No impact(s).

Nature and Extent of Confidentiality: There is no need for confidentiality with this collection.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used to require broadcasters transitioning to a new station following the Incentive Auction, or going off the air as a result of a winning bid in the Incentive Auction, to notify their viewers of the date the station will terminate operations on its pre-Auction channel by running public service announcements, and allow these broadcasters to inform MVPDs of their relinquishment or change in channel. It requires channel sharing agreements enter into by television broadcast licensees to contain certain provisions regarding access to facilities, financial obligations and to define each party's rights and responsibilities; the Commission will review each channel sharing agreement to ensure it comports with general rules and policies regarding license agreements. The provisions contained in this collection also require wireless licensees to notify low-power television and TV translator stations commence wireless operations and the likelihood of receiving harmful interference from the low power TV or TV translator station to such operations within the wireless licensee's licensed geographic service area. Finally, it requires license relinquishment stations and channel sharing stations to comply with notification and cancellation procedures as they terminate operations on their pre-Auction channel. OMB approved the requirements.

OMB Control No.: 3060-0386.

OMB Approval Date: March 17, 2016.

OMB Expiration Date: March 31, 2019.

Title: Special Temporary Authorization (STA) Requests; Notifications; and Informal Filings; Sections 1.5, 73.1615, 73.1635, 73.1740 and 73.3598; CDBS Informal Forms; Section 74.788; Low Power Television, TV Translator and Class A Television Digital Transition Notifications; Section 73.3700(b)(5), Post Auction Licensing; Section 73.3700(f), Service Rule Waiver; FCC Form 337.

Form No.: FCC Form 337.

Respondents: Business or other for-profit entities; Not for profit institutions; State, local or Tribal government.

Number of Respondents and Responses: 6,609 respondents and 6,609 responses.

Estimated Time per Response: .50-4.0 hours.

Frequency of Response: One-time reporting requirement and on occasion reporting requirement.

Obligation to Respond: Required to obtain or retain benefits. The statutory authority for this collection is contained in 47 U.S.C. 151, 154(i), 157 and 309(j) as amended; Middle Class Tax Relief and Job Creation Act of 2012, Public Law 112-96, § 6402 (codified at 47 U.S.C. 309(j)(8)(G)), 6403 (codified at 47 U.S.C. 1452), 126 Stat. 156 (2012) (Spectrum Act); and Sections 1, 4(i) and (j), 7, 301, 302, 303, 307, 308, 309, 312, 316, 318, 319, 324, 325, 336, and 337 of the Communications Act of 1934, as amended.

Total Annual Burden: 5,475 hours.

Annual Cost Burden: $2,156,510.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used to allow television broadcast stations to request special temporary authority (STA) to operate, seek an extension of time to complete construction, request a waiver of the Commission's service rules following the Incentive Auction, and make other informal requests and submissions. OMB approved the requirements.

OMB Control No.: 3060-0837.

OMB Approval Date: March 17, 2016.

OMB Expiration Date: March 31, 2019.

Title: FCC Form 2100, Application for Media Bureau Audio and Video Service Authorization, Schedule B (Former FCC Form 302-DTV).

Form No.: FCC Form 2100, Schedule B.

Respondents: Business or other for-profit entities; Not for profit institutions.

Number of Respondents and Responses: 955 respondents and 955 responses.

Estimated Time per Response: 2 hours.

Frequency of Response: One-time reporting requirement and on occasion reporting requirement.

Obligation to Respond: Required to obtain or retain benefits. The statutory authority for this collection is contained in sections 154(i), 307, 308, 309, and 319 of the Communications Act of 1934, as amended; the Community Broadcasters Protection Act of 1999, Public Law 106-113, 113 Stat. Appendix I at pp. 1501A-594-1501A-598 (1999) (codified at 47 U.S.C. 336(f)); and the Middle Class Tax Relief and Job Creation Act of 2012, Public Law 112-96, sections 6402 (codified at 47 U.S.C. 309(j)(8)(G)), 6403 (codified at 47 U.S.C. 1452), 126 Stat. 156 (2012) (Spectrum Act).

Total Annual Burden: 1,910 hours.

Annual Cost Burden: $460,070.00.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used to allow full-power television broadcast stations to file a license to cover an authorized construction permit once facilities have been constructed. In addition, full-power television broadcast stations that enter into channel sharing agreements following the Commission's Incentive Auction will use FCC Form 2100, Schedule B to file an application for a license for the shared channel sharing, and will allow a full-power station, upon termination of its channel sharing agreement, to file an application to change its license to non-shared status using FCC Form 2100, Schedule B. The requirements were approved by OMB.

OMB Control No.: 3060-0928.

OMB Approval Date: March 17, 2016.

OMB Expiration Date: March 31, 2019.

Title: FCC Form 2100, Application for Media Bureau Audio and Video Service Authorization, Schedule F (Formerly FCC 302-CA); 47 CFR 73.3572(h) and 47 CFR 73.3700(b)).

Form No.: FCC Form 2100, Schedule F.

Respondents: Business or other for-profit entities; Not for profit institutions; State, local or Tribal Government.

Number of Respondents and Responses: 955 respondents and 955 responses.

Estimated Time per Response: 2 hours.

Frequency of Response: One-time reporting requirement and on occasion reporting requirement.

Total Annual Burden: 1,910 hours.

Annual Cost Burden: $300,825.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used by Class A stations seeking a license to cover their authorized construction permit facilities and Class A stations entering into a channel sharing agreement. These requirements were approved by OMB.

OMB Control No.: 3060-0932.

OMB Approval Date: March 17, 2016.

OMB Expiration Date: March 31, 2019.

Title: FCC Form 2100, Application for Media Bureau Audio and Video Service Authorization, Schedule E (Former FCC Form 301-CA); 47 CFR 73.3700(b)(1)(i)-(v) and (vii), (b)(2)(i) and (ii); 47 CFR 74.793(d).

Form No.: FCC Form 2100, Schedule E (Application for Media Bureau Audio and Video Service Authorization) (Former FCC Form 301-CA).

Respondents: Business or other for-profit entities; Not for profit institutions; State, Local or Tribal Government.

Number of Respondents and Responses: 725 respondents and 725 responses.

Estimated Time per Response: 2.25 hours-6 hours (for a total of 8.25 hours).

Frequency of Response: One-time reporting requirement; On occasion reporting requirement; Third party disclosure requirement; Recordkeeping requirement.

Obligation to Respond: Required to obtain or retain benefits. The statutory authority for this collection is contained in 47 U.S.C. 151, 154(i), 157 and 309(j) as amended; Middle Class Tax Relief and Job Creation Act of 2012, Public Law 112-96, sections 6402 (codified at 47 U.S.C. 309(j)(8)(G)), 6403 (codified at 47 U.S.C. 1452), 126 Stat. 156 (2012) (Spectrum Act) and the Community Broadcasters Protection Act of 1999.

Total Annual Burden: 5,981 hours.

Annual Cost Burden: $3,949,550.

Privacy Act Impact Assessment: No impact(s).

Nature and Extent of Confidentiality: There is no need for confidentiality with this collection of information.

Needs and Uses: The collection was submitted to the Office of Management (OMB) for the approval of information collection requirements contained in the Commission's Incentive Auction Order, FCC 14-50, which adopted rules for holding an Incentive Auction, as required by the Middle Class Tax Relief and Job Creation Act of 2012 (Spectrum Act). The information gathered in this collection will be used allow Class A television stations to make changes in their authorized facilities. Specifically, Class A stations assigned to a new channel following the Incentive Auction must file a minor change application on FCC Form 2100, Schedule E following release of the Channel Reassignment Public Notice. Under certain circumstances, licensees of stations reassigned to a new channel within their existing band to propose transmission facilities in their construction permit applications that will extend their coverage contours. In addition, there will be a priority processing window for licensees of reassigned stations, UHF-to-VHF stations, or High-VHF-to-Low-VHF stations that, for reasons beyond their control, are unable to construct facilities that meet the technical parameters specified in the Channel Reassignment Public Notice, or the permissible contour coverage variance from those technical parameters specified in section 73.3700(b)(1)(ii) or (iii). Channel sharee stations file a minor change application for a construction permit for the channel on which the channel sharer operates at least sixty (60) days prior to the date by which it must terminate operations on its pre-auction channel and must include a copy of the channel sharing agreement. In addition, subject to limitations set out in the rules, a Class A licensee of a reassigned station, a UHF-to-VHF station, or a High-VHF-to-Low-VHF station may file a minor change application for a construction permit on FCC Form 2100 Schedule E during a filing window to be announced by the Media Bureau by public notice, in order to request a change in the technical parameters specified in the Channel Reassignment Public Notice with respect to height above average terrain (HAAT), effective radiated power (ERP), or transmitter location that would be considered a minor change under sections 73.3572(a)(1), (2) or 74.787(b). FCC Form 2100, Schedule E was modified to accommodate new channel sharing provisions. OMB approved the requirements.

Federal Communications Commission.
Gloria J. Miles,
Federal Register Liaison Officer, Office of the Secretary.

[FR Doc. 2016-06814 Filed 3-25-16; 8:45 am]

BILLING CODE 6712-01-P